DEPARTMENT OF THE INTERIOR

Bureau of Land Management

[LLUTC03000-16100000-LXSS004J0000]

Notice of Intent To Prepare Resource Management Plans for the Beaver Dam Wash and Red Cliffs National Conservation Areas and an Amendment to the St. George Field Office Resource Management Plan, and an Associated Environmental Impact Statement, Utah

AGENCY: Bureau of Land Management, Interior.

ACTION: Notice of intent.

SUMMARY: In compliance with the National Environmental Policy Act (NEPA) of 1969, as amended; Federal Land Policy and Management Act (FLPMA) of 1976, as amended; and the Omnibus Public Land Management Act of 2009 (Pub. L 111-11), the Bureau of Land Management (BLM) St. George Field Office (SGFO), St. George, Utah, intends to prepare Resource Management Plans (RMP) for the Beaver Dam Wash and the Red Cliffs National Conservation Areas and an amendment to the St. George Field Office RMP. The BLM SGFO will prepare a single Environmental Impact Statement (EIS) to satisfy the NEPA requirements of this planning process. By this notice, the BLM is announcing the beginning of the scoping process to solicit public comments and identify issues.

DATES: This notice initiates public scoping for this planning process and associated EIS. Comments on issues may be submitted in writing until June 9, 2010. The date(s) and location(s) of any scoping meetings will be announced at least 15 days in advance through local media and at the following BLM Web site: http://www.blm.gov/ut/st/en/fo/st__george.html. In order to be considered in the Draft RMPs and Draft RMP Amendment/EIS (hereinafter Draft Plans and Amendment/EIS), all comments must be received prior to the close of the 30-day scoping period or 30 days after the last public meeting, whichever is later. We will provide additional opportunities for public participation upon publication of the Draft Plans and Amendment/EIS.

ADDRESSES: You may submit comments on issues and planning criteria related to this planning effort by any of the following methods:

• Web site: http://www.blm.gov/ut/st/en/fo/st__george.html.

• E-mail: utsgrmp@blm.gov.

• Fax: 435-688-3252.

• Mail: Bureau of Land Management, Attn: Project Manager, 345 E. Riverside Drive, St. George, Utah, 84770.

Documents pertinent to this proposal may be examined at the SGFO.

FOR FURTHER INFORMATION CONTACT: For further information and/or to have your name added to our mailing list, contact Keith Rigtrup, Project Manager, telephone (435) 586-2401, address Bureau of Land Management, 345 E. Riverside Drive, St. George, Utah 84770; e-mail utsgrmp@blm.gov.

SUPPLEMENTARY INFORMATION: This document provides notice that the BLM SGFO, St. George, Utah intends to prepare RMPs for the Beaver Dam Wash and the Red Cliffs National Conservation Areas and an amendment to the SGFO RMP with an associated EIS; announces the beginning of the scoping process; and seeks public input on issues and planning criteria. On March 30, 2009, Public Law 111-11 was signed into law. Section O of this legislation designated new units of BLM's National Landscape Conservation System in Washington County, Utah, including two National Conservation Areas (NCAs)—the approximately 63,500-acre Beaver Dam Wash NCA and the approximately 45,000-acre Red Cliffs NCA. The new NCAs have as their identified purposes, the conservation, protection, and enhancement of their ecological, natural, cultural/historical, recreational, scenic, educational, wildlife and scientific values, and to protect each species located in the NCA that is listed as a threatened or endangered species. The preparation of management plans for the two NCAs is mandated by Public Law 111-11 and will be completed through this planning effort. To bring the existing SGFO RMP into compliance with the new designations and mandates from Public Law 111-11, the SGFO proposes to amend the RMP to address specific issues and public land uses. The purpose of the public scoping process is to determine relevant issues that will influence the scope of the environmental analysis, including alternatives, and guide the planning process. The plan amendment will be guided by the planning criteria and will identify the issues to be resolved, explain or identify the current management situation, desired resource conditions to be maintained or achieved, and the management actions necessary to achieve those objectives. Specifically, the plan amendment will consider changes to the Off-Highway Vehicle (OHV) area designations (Open, Closed, and Limited) approved through the 1999 SGFO RMP. The plan amendment will also consider nominations for Areas of Critical Environmental Concern on public lands in Washington County “where biological conservation is a priority,” pursuant to section 1979 of Public Law 111-11. Preliminary issues for the planning area have been identified by BLM personnel; Federal, state, and local agencies; and other stakeholders. The issues include: Air quality, management of Beaver Dam Wash NCA, management of Red Cliffs NCA, and priority biological conservation areas.

Preliminary planning criteria include:

1. The public planning process for these NCAs will be guided by Public Law 111-11, in addition to FLPMA and NEPA.

2. The BLM will use current scientific information, research, technologies, and results of inventory, monitoring, and coordination to determine appropriate local and regional management strategies that will enhance or restore impaired systems.

3. The Joshua Tree Instant Study Area within the Beaver Dam Wash NCA will be carried forward in all alternatives for management of the Beaver Dam Wash NCA and the area will continue to be managed under Interim Management Policy for Lands Under Wilderness Review.

4. The Joshua Tree National Natural Landmark within the Beaver Dam Wash NCA continues to be a valid designation and will be carried forward in all alternatives for management of Beaver Dam Wash NCA.

5. New Wild and Scenic River proposals will not be evaluated or analyzed in this plan amendment process. One suitable river segment under SGFO administration that was not designated into the National System of Wild and Scenic Rivers by Public Law 111-11 will continue to be managed in accordance with BLM Manual 8351 Wild and Scenic Rivers—Policy and Program Direction for Identification, Evaluation, and Management.

6. Area designations (Open, Closed, or Limited Use) for motorized recreation will be consistent with the BLM National Management Strategy for Motorized OHV Use on Public Lands and transportation and travel management policy.

7. The designated OHV “Open” area of the Sand Mountain Special Recreation Management Area will remain Open under all alternatives of the plan amendment, consistent with the agreement for joint management by the State of Utah's Sand Hollow Reservoir State Park.

8. Motorized travel routes designated through the Red Cliffs Desert Reserve Public Use Plan (2001) will be carried forward under one or more alternatives.

9. At least one alternative will identify a “northern transportation corridor,” as mandated by Public Law 111-11.

You may submit comments on issues and planning criteria to the BLM in writing, at any public scoping meeting, or you may submit them to the BLM using one of the methods listed in the ADDRESSES section above. In order to be considered in this planning process, all comments must be received prior to the close of the scoping period or 30 days after the last public meeting, whichever is later. Before including your address, phone number, e-mail address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the planning process;

2. Issues to be resolved through policy or administrative action; or

3. Issues beyond the scope of this planning process.

The BLM will provide an explanation in the Draft Plans and Amendment/EIS as to why an issue was placed in category two or three. The public is also encouraged to help identify any management questions and concerns that should be addressed in the plan. The BLM will work collaboratively with interested parties to identify the management decisions that are best suited to local, regional, and national needs and concerns.

The BLM will use an interdisciplinary team approach in the planning process to consider the variety of resource issues and concerns identified. Specialists with expertise in the following disciplines will be involved in the planning process: Air quality, archeology, biology, botany, climate change, ecology, lands and realty, paleontology, recreation, socio-economics, and soils and vegetation.

Approved:
Selma Sierra,
State Director.

Authority: 40 CFR 1501.7, 43 CFR 1610.2.

[FR Doc. 2010-10990 Filed 5-7-10; 8:45 am]

BILLING CODE 4310-DQ-P